DEPARTMENT OF COMMERCE

Foreign-Trade Zones Board

[B-76-2016]

Foreign-Trade Zone 12—McAllen, Texas; Application for Reorganization Under Alternative Site Framework

An application has been submitted to the Foreign-Trade Zones (FTZ) Board by the McAllen Foreign Trade Zone, Inc., grantee of FTZ 12, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on November 10, 2016.

FTZ 12 was approved by the FTZ Board on October 23, 1970 (Board Order 84, 35 FR 16962, November 3, 1970), and expanded on May 2, 1984 (Board Order 254, 49 FR 22842, June 1, 1984), on June 19, 1990 (Board Order 469, 55 FR 26225, June 27, 1990), on April 29, 1996 (Board Order 819, 61 FR 21157, May 9, 1996), and on January 21, 2003 (Board Order 1266, 68 FR 5271-5272, February 3, 2003).

The current zone includes the following sites: Site 1 (865 acres total, four parcels)—McAllen Southwest Industrial Area located at FM 1016 and Ware Road (80 acres), at FM 1016 between Bentsen Road and Shary Road (695 acres), at 3801 West Military Highway (50 acres), and at 6800 South Ware Road (40 acres) in McAllen; and, Site 2 (8.5 acres)—McAllen Miller International Airport Air Cargo Facility located south of Uvalde Street and East of FM 1926 in McAllen.

The grantee's proposed service area under the ASF would be Hidalgo County, Texas, as described in the application. If approved, the grantee would be able to serve sites throughout the service area based on companies' needs for FTZ designation. The application indicates that the proposed service area is within and adjacent to the Hidalgo/Pharr Customs and Border Protection port of entry.

The applicant is requesting authority to reorganize its existing zone to include all of the existing sites as “magnet” sites. The ASF allows for the possible exemption of one magnet site from the “sunset” time limits that generally apply to sites under the ASF, and the applicant proposes that Site 1 be so exempted. No subzones/usage-driven sites are being requested at this time. The application would have no impact on FTZ 12's previously authorized subzone.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is January 17, 2017. Rebuttal comments in response to material submitted during the foregoing period may be submitted during the subsequent 15-day period to January 31, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: November 10, 2016.
Elizabeth Whiteman,
Acting Executive Secretary.

[FR Doc. 2016-27666 Filed 11-16-16; 8:45 am]

BILLING CODE 3510-DS-P